DEPARTMENT OF HEALTH AND HUMAN SERVICES

Food and Drug Administration

[Docket Nos. FDA-2013-N-0370, FDA-2013-N-0065, FDA-2012-N-0427, FDA-2012-N-0536, FDA-2012-N-0873, FDA-2015-N-3662, FDA-2012-N-0976, FDA-2013-N-0297, FDA-2011-D-0893, and FDA-2019-N-1265]

Agency Information Collection Activities; Announcement of Office of Management and Budget Approvals

AGENCY: Food and Drug Administration, HHS.

ACTION: Notice.

SUMMARY: The Food and Drug Administration (FDA) is publishing a list of information collections that have been approved by the Office of Management and Budget (OMB) under the Paperwork Reduction Act of 1995.

FOR FURTHER INFORMATION CONTACT: Ila S. Mizrachi, Office of Operations, Food and Drug Administration, Three White Flint North, 10A-12M, 11601 Landsdown St., North Bethesda, MD 20852, 301-796-7726, PRAStaff@fda.hhs.gov.

SUPPLEMENTARY INFORMATION: The following is a list of FDA information collections recently approved by OMB under section 3507 of the Paperwork Reduction Act of 1995 (44 U.S.C. 3507). The OMB control number and expiration date of OMB approval for each information collection are shown in table 1. Copies of the supporting statements for the information collections are available on the internet at https://www.reginfo.gov/public/do/PRAMain. An Agency may not conduct or sponsor, and a person is not required to respond to, a collection of information unless it displays a currently valid OMB control number.

Table 1—List of Information Collections Approved by OMB
Title of collection | OMB control No. | Date approval expires
Export of Medical Devices; Foreign Letters of Approval | 0910-0264 | 8/31/2022
Registration of Food Facilities | 0910-0502 | 8/31/2022
Inspection by Accredited Persons Program Under the Medical Device User Fee and Modernization Act of 2002 | 0910-0510 | 8/31/2022
Medical Device User Fee Cover Sheet—Form FDA 3601 | 0910-0511 | 8/31/2022
Bar Code Label Requirement for Human Drug Products and Biological Products | 0910-0537 | 8/31/2022
Guidance on Reagents for Detection of Specific Novel Influenza A Viruses | 0910-0584 | 8/31/2022
Guidance: Emergency Use Authorization of Medical Products and Related Authorities | 0910-0595 | 8/31/2022
Production, Storage, and Transportation of Shell Eggs (preventing Salmonella Enteritidis (SE)) | 0910-0660 | 8/31/2022
Center for Devices and Radiological Health Appeals Processes | 0910-0738 | 8/31/2022
Food Labeling: Nutrition Facts Label and Supplement Facts Labels | 0910-0813 | 8/31/2022

Dated: October 10, 2019.
Lowell J. Schiller,
Principal Associate Commissioner for Policy.

[FR Doc. 2019-22803 Filed 10-17-19; 8:45 am]

BILLING CODE 4164-01-P